ENVIRONMENTAL PROTECTION AGENCY

[EPA-HQ-OW-2008-0719, FRL-9962-12-OW]

Proposed Information Collection Request; Comment Request; ICR Supporting Statement Information Collection Request for National Pollutant Discharge Elimination System (NPDES) Program (Renewal)

AGENCY: Environmental Protection Agency (EPA).

ACTION: Notice.

SUMMARY: The Environmental Protection Agency (EPA) is planning to submit an information collection request (ICR), “ICR Supporting Statement Information Collection Request for National Pollutant Discharge Elimination System (NPDES) Program (Renewal)” (EPA ICR No. 0229.22, OMB Control No. 2040-0004) to the Office of Management and Budget (OMB) for review and approval in accordance with the Paperwork Reduction Act (PRA). Before doing so, EPA is soliciting public comments on specific aspects of the proposed information collection. This is a proposed revision of the ICR which is currently approved through December 31, 2017. An Agency may not conduct or sponsor and a person is not required to respond to a collection of information unless it displays a currently valid OMB control number.

DATES: Comments must be submitted on or before August 28, 2017.

ADDRESSES: Submit your comments, referencing Docket ID No. EPA-HQ-OW-2008-0719, FRL-9962-12-OW, online using https://www.regulations.gov (our preferred method), by email to letnes.amelia@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Amelia Letnes, State and Regional Branch, Water Permits Division, OWM Mail Code: 4203M, Environmental Protection Agency, 1200 Pennsylvania Ave. NW., Washington, DC 20460; telephone number: (202) 564-5627; fax number: (202) 564 9544; email address: letnes.amelia@epa.gov

SUPPLEMENTARY INFORMATION: Supporting documents which explain in detail the information that the EPA will be collecting are available in the public docket for this ICR. The docket can be viewed online at https://www.regulations.gov or in person at the EPA Docket Center, WJC West, Room 3334, 1301 Constitution Ave. NW., Washington, DC. The telephone number for the Docket Center is 202-566-1744. For additional information about EPA's public docket, visit https://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This consolidated ICR calculates the burden and costs associated with the NPDES program, identifies the types of activities regulated under the NPDES program, describes the roles and responsibilities of state governments and the Agency, and presents the program areas that address the various types of regulated activities. It is a revision of the Information Collection Request for the NPDES Program (OMB Control Number: 2040-0004; EPA ICR Number: 0229.21; expiration date 12/31/2017) submitted to OMB in December 2015 that consolidated the burden and costs associated with activities previously reported in 11 NPDES program or NPDES-related ICRs administered by EPA's Water Permits Division. This renewal documents the addition, into the consolidated NPDES ICR, of the burden and costs for seven more NPDES programs, which were previously contained in separate ICRs as listed below:

• Consolidated Animal Sectors (OMB Control No. 2040-0250; EPA ICR Number 1989.09; Expiration date—5/31/2019)

• Pesticide Applicators (OMB Control No. 2040-0284; EPA ICR Number 2397.02; Expiration date—3/31/2019)

• National Pretreatment Program (OMB Control No. 2040-0009; EPA ICR Number 0002.15; Expiration date—4/30/2019)

• Cooling Water Intake Structures Phase I—New Facilities (OMB Control No. 2040-0241; EPA ICR Number 1973.06; Expiration date—11/30/2019)

• Cooling Water Intake Structures at Phase III Facilities (OMB Control No. 2040-0268, EPA ICR No. 2169.05; Expiration date—07/31/2017)

• Cooling Water Intake Structures Existing Facilities (OMB Control No. 2040-0257; EPA ICR No. 2060.07 Expiration date—10/31/2017)

• NPDES Electronic Reporting Rule (OMB Control No. 2020-0035; EPA ICR No. 2468.02; Expiration date—1/31/2019)

Permit applications and other respondent reports may contain confidential business information. If a respondent does consider this information to be of a confidential nature, the respondent may request that such information be treated as confidential. All confidential data will be handled in accordance with 40 CFR 122.7, 40 CFR part 2, and EPA's Security Manual part III, chapter 9, dated August 9, 1976.

Form Numbers: OMB No. 2040-0086; OMB No. 2040-0250; OMB No. 2040-0188, OMB No. 2040-0211; OMB No. 1004-0189; OMB 2040-0284; OMB No. 0596-0082; and OMB No. 2040-0004.

Respondents/affected entities: Any industrial point source discharger of pollutants, including but not limited to publicly owned and privately owned treatment works (POTWs and PrOTWs), industrial dischargers to POTWs and PrOTWs, sewage sludge management and disposal operations, small and large vessels, airports with deicing operations, dischargers of stormwater, construction sites, municipalities, pesticide applicators, local and state governments.

Respondent's obligation to respond: Mandatory. Sections 301, 302, 304, 306, 307, 308, 316(b), 401, 402, 403, 405, and 510 of the CWA; the 1987 Water Quality Act (WQA) revisions to CWA section 402(p); 40 (CFR) Parts 122, 123, 124, and 125 (and Parts 501 and 503 for Biosolids); and the Great Lakes Critical Programs Act (CPA).

Estimated number of respondents: 935,020 total (934,383 permittees and 637 States/Tribes/Territories).

Frequency of response: The frequency of response varies depending on the specific response activity and can range from ongoing and monthly to once every 5 years.

Total estimated burden: 28,239,262 hours (per year). Burden is defined at 5 CFR 1320.03(b).

Total estimated cost: $1,476,244,044 (per year), includes $43,659,009 annualized capital or operation & maintenance costs.

Changes in Estimates: There is a net increase of 836,289 (3%) hours in the total estimated respondent burden compared with the combined burden of the component ICRs currently approved by OMB. This minor change in the total is primarily due to a combination of both burden increases and decreases in the component ICRs. Minor changes in the estimated burden occurred for five of the eight component ICRs (NPDES ICR, Pesticide Applicators ICR, National Pretreatment Program ICR, Cooling Water Intake Structures Phase I New Facilities ICR, and the Cooling Water Intake Structures Phase III Facilities ICR). Significant changes occurred for three of the eight component ICRs (Consolidated Animal Sectors ICR, Cooling Water Intake Structures Existing Facility ICR, and Electronic Reporting Rule ICR). These significant changes included:

• A decrease of 12 percent in the animal sector labor burden due to revised EPA estimates based on changes in industry practice, adherence to USDA guidelines, and industry consolidation (OMB Control No. 2040-0250; EPA ICR Number 1989.09);

• an increase of 140 percent in the cooling water intake structures existing facilities labor burden due to the coincidence of the period of greatest implementation burden with the three year ICR period (OMB Control No. 2040-0257; EPA ICR No. 2060.07); and

• a decrease of 164 percent in the electronic reporting rule labor burden due to the reduced need for data input due to increased participation in electronic filing of forms and reports as the rule is implemented (OMB Control No. 2020-0035; EPA ICR No. 2468.02).

Dated: April 26, 2017.
Sheila E. Frace,
Acting Director, Office of Wastewater Management, Office of Water.

[FR Doc. 2017-13672 Filed 6-28-17; 8:45 am]

BILLING CODE 6560-50-P